GOVERNMENT ACCOUNTABILITY OFFICE

4 CFR Part 22

Rules of Procedure of the Government Accountability Office Contract Appeals Board; Correction

AGENCY: Government Accountability Office.

ACTION: Interim rule; correction.

SUMMARY: On June 26, 2008, the Government Accountability Office Contract Appeals Board published an interim rule, but inadvertently omitted the effective date. This document adds an effective date to the published interim rule.

DATES: The interim rule published on June 26, 2008, at 73 FR 36257 is effective on June 26, 2008, and is applicable to all appeals filed on or after October 1, 2007. Comments must be submitted on or before August 25, 2008.

ADDRESSES: Comments may be submitted by e-mail at cab@gao.gov or by facsimile at 202-512-9749. Due to delivery delays, submission by regular mail is discouraged. Comments may be sent by Federal Express (FedEx) or United Parcel Service (UPS) addressed to: James A. Spangenberg, Chairman, Government Accountability Office Contract Appeals Board, 441 G Street, NW., Room 7182, Washington, DC 20548.

FOR FURTHER INFORMATION CONTACT: James A. Spangenberg (Chairman), David Ashen (Vice Chairman), or Sharon L. Larkin (Member), 202-512-3342, cab@gao.gov. Hearing or speech impaired individuals may contact the Board via TTY by calling the toll-free Federal Information Relay Service at 800-877-8339.

Dated: June 26, 2008.
James A. Spangenberg,
Chairman, Government Accountability Contract Appeals Board.

[FR Doc. 08-1400 Filed 6-26-08; 1:23 pm]

BILLING CODE 1610-02-P